ENVIRONMENTAL PROTECTION AGENCY

[FRL-6713-4]

Adequacy Status of Motor Vehicle Emissions Budgets in Submitted State Implementation Plans for Transportation Conformity Purposes; Pennsylvania; Revised Attainment and ROP Plans for the Philadelphia-Wilmington-Trenton Ozone Nonattainment Area

AGENCY: Environmental Protection Agency (EPA).

ACTION: Notice of adequacy status.

SUMMARY: EPA is announcing that the revised motor vehicle emissions budgets (budgets) contained in the revised attainment plan for the Philadelphia-Wilmington-Trenton Ozone Nonattainment Area and in the revised Rate of Progress Plans (ROP) for the Pennsylvania portion of the area submitted by the Commonwealth of Pennsylvania as a State Implementation Plan (SIP) revision are adequate for transportation conformity purposes. The Commonwealth submitted the revised plans to EPA on February 25, 2000. The plans consist of the 2005 attainment demonstration for the Philadelphia-Wilmington-Trenton Ozone Nonattainment Area and the 1999, 2002, and 2005 ROP plans for the Pennsylvania portion of the Philadelphia-Wilmington-Trenton Ozone Nonattainment Area. EPA has found the budgets for the Philadelphia-Wilmington-Trenton Ozone Nonattainment Area in the revised attainment and ROP plans submitted by the Pennsylvania Department of Environmental Protection (DEP) on February 25, 2000 adequate for transportation conformity purposes.

DATES: The findings that the budgets are adequate were made in a letter dated May 31, 2000 from EPA Region III to the Pennsylvania Department of Environmental Protection and are effective on June 23, 2000.

FOR FURTHER INFORMATION CONTACT: Larry Budney, U.S. EPA, Region III, 1650 Arch Street, Philadelphia, PA 19103 at (215) 814-2184 or by e-mail at: Budney.Larry @epa.gov.

SUPPLEMENTARY INFORMATION: Throughout this document the terms “we,” “us,” or “our” refer to EPA. The word “budgets” refers to the motor vehicle emission budgets for volatile organic compounds (VOCs) and nitrogen oxides (NOX). The words “revised SIP” in this document refers to the revised attainment plan for the Philadelphia-Wilmington-Trenton Ozone Nonattainment Area and the revised ROP plans for the Pennsylvania portion of the area submitted to EPA by the Pennsylvania DEP on February 25, 2000. The revised SIP includes the revised attainment demonstration for the one-hour National Ambient Air Quality Standard (NAAQS) for ozone for the Philadelphia-Wilmington-Trenton Ozone Nonattainment Area and the revised ROP plans (1999, 2002 and 2005) for the Pennsylvania portion of the area. The Pennsylvania portion of the nonattainment area consists of Philadelphia, Delaware, Chester, Montgomery, and Bucks Counties.

On March 2, 1999, the D.C. Circuit Court ruled that the budgets contained in submitted SIPs cannot be used for transportation conformity determinations until EPA has affirmatively found them adequate.

By a transmittal letter dated February 25, 2000, PADEP submitted its revised SIP for the Philadelphia-Wilmington-Trenton Ozone Nonattainment Area. On March 13, 2000, we posted the availability of the revised SIP and motor vehicle emission budgets on our conformity website for the purpose of soliciting public comment on the adequacy of the mobile budgets. The comment period closed on April 24, 2000.

On May 31, 2000, we sent a letter to the Pennsylvania DEP that constituted final Agency actions on the adequacy of the budgets contained in the revised SIP. Those actions were EPA's findings that the budgets in the revised SIP are adequate for transportation conformity purposes. As a result of our findings, the budgets contained in the revised SIP submitted on February 25, 2000 by Pennsylvania DEP for the Philadelphia-Wilmington-Trenton Ozone Nonattainment Area may be used for future conformity determinations. This is an announcement of adequacy findings that we already made on May 31, 2000. The effective date of these findings is June 23, 2000. These findings will also be announced on EPA's website: http://www.epa.gov/oms/traq, (once there, click on the “Conformity” button, then look for “Adequacy Review of SIP Submissions for Conformity”). The website will contain a detailed analysis of our adequacy findings and our responses to the public comments received.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the NAAQS. The criteria by which we determine whether a SIP's budgets are adequate for conformity purposes are outlined in 40 CFR 93.118(e)(4).

Please note that an adequacy finding of mobile budgets in a submitted SIP is separate from EPA's completeness determination on that SIP, and separate from EPA's final action as to whether or not the SIP is approvable. Even if we find budgets adequate, the SIP could later be disapproved. We describe our process for determining the adequacy of submitted SIP budgets in a guidance memorandum dated May 14, 1999 entitled “Conformity Guidance on Implementation of March 2, 1999 Conformity Court Decision”. We followed this guidance in making our adequacy findings for the budgets contained in the revised SIP submitted on February 25, 2000 by the Commonwealth of Pennsylvania. You may obtain a copy of this guidance from EPA's conformity website referred to above or by calling the contact name listed in the FOR FURTHER INFORMATION CONTACT section of this notice.

Authority: 42 U.S.C. 7401-7671q.

Dated: June 1, 2000.
Bradley M. Campbell,
Regional Administrator, Region III.

[FR Doc. 00-14598 Filed 6-7-00; 8:45 am]

BILLING CODE 6560-50-P